DEPARTMENT OF COMMERCE

National Oceanic and Atmospheric Administration

[I.D. 051706C]

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings.

DATES: The meetings will be held on June 5-8, 2006.

ADDRESSES: These meetings will be held at the Quorum Hotel, 700 North Westshore Boulevard, Tampa, FL 33607

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION:

Council

Wednesday, June 7, 2006

8:30 a.m. - Convene.

8:45 a.m. - 9:15 a.m. - Hear a report on the Implications of the National Research Council (NRC) Review of Recreational Data Collection.

9:15 a.m. - 9:30 a.m. - Receive public testimony on exempted fishing permits (if any).

9:30 a.m. - 10:30 a.m. - Open public comment period regarding any fishery issue or concern.

10:30 a.m. - 11:30 a.m. - Hear a report on the Coastal Ocean Observing System.

1 p.m. - 1:15 p.m. - Receive the Administrative Policy Committee Report.

1:15 p.m. - 2:30 p.m. - Receive the Sustainable Fisheries/Ecosystem Committee Report.

2:30 p.m. - 4 p.m. - Receive the Joint Reef Fish/Shrimp Committees Report.

4 p.m. - 4:45 p.m. - Receive the Southeast Data Assessment and Review Panel (SEDAR) Selection Committee Report and select persons to serve on the SEDAR 12 panels (CLOSED SESSION).

4:45 p.m. - 5:30 p.m. - Hold the AP Selection Committee/Council meeting in CLOSED SESSION to review fishery violations.

Thursday, June 8, 2006

8:30 a.m. - 9:30 a.m. - Continue with the Joint Reef Fish/Shrimp Committees Report.

9:30 a.m. - 9:45 a.m. - Publicly report the Council action on the SEDAR Committee and AP Selection Committee/Council sessions.

9:45 a.m. - 10 a.m. - Receive the Joint Reef Fish/Mackerel/Red Drum Committees Report.

10 a.m. - 10:30 a.m. - Receive the Shrimp Committee Report.

10:30 a.m. - 11:30 a.m. - Receive the Reef Fish Committee Report.

11:30 a.m. - 12 noon - Other Business (Includes miscellaneous reports filed under Tabs O, P, Q, and R of briefing book).

Committee

Monday, June 5, 2006

1 p.m. - 2 p.m. - The Administrative Policy Committee will meet to review the Statement of Organization Practices and Procedures' (SOPPs) provisions on the Standing Scientific and Statistical Committee (SSC) operations; review the proposed NMFS Operating Agreement for Regulatory Streamlining; and hear a presentation on the draft Council communications plan.

2 p.m. - 5:30 p.m. The Sustainable Fisheries/Ecosystem Committee will review and comment on Congressional bills on the reauthorization of the Magnuson-Stevens Fishery Conservation and Management Act (Magnuson-Stevens Act).

Tuesday, June 6, 2006

8:30 a.m. - 12 noon - The Joint Reef Fish/Shrimp Management Committees will receive a report on the decline in effort for selected recreational fisheries; and receive a report on the Ad Hoc Shrimp Effort Work Group. The Committees will also review a Partial Draft Joint Reef Fish 27/Shrimp 14 Amendment. This Amendment considers changes to regulations for the directed red snapper fishery, alternatives to reduce bycatch in the directed red snapper fishery and shrimp fishery, and alternatives to limit effort in the shrimp fishery.

1:30 p.m. - 2:15 p.m. - The Shrimp Management Committee will receive a report on the near-shore areas where juvenile red snapper congregate. The Committee will also review the Draft Options Paper for Shrimp Amendment 15 that considers limits on trawling gear, restrictions on the transfer of vessel permits, bycatch quotas, and possible time/area closures.

2:15 p.m. - 3:30 p.m. - The Joint Reef Fish/Mackerel/Red Drum Committees will receive a presentation on the siting of aquaculture facilities and an update on actions for drafting the Generic Amendment for Regulating Offshore Aquaculture. The Committee will also hear a report on Florida's Best Management Practices for Net Pens.

3:30 p.m. - 5 p.m. - The Reef Fish Management Committee will receive a report of the Ad Hoc Grouper Individual Fishing Quota (IFQ) Advisory Panel (AP) and a report on the status of the Grouper Allocation Amendment. The Committee will also review a report on the implications of the SEDAR 9 stock assessment to the stocks of greater amberjack, vermilion snapper, and gray triggerfish. The Committee will also approve the Red Snapper IFQ outreach workshops for the IFQ program.

The committee reports will be presented to the Council for consideration on Wednesday and Thursday, June 7-8.

Although other non-emergency issues not on the agendas may come before the Council and Committees for discussion, in accordance with the Magnuson-Stevens Act, those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Trish Kennedy at the Council (see ADDRESSES) at least 5 working days prior to the meeting.

Dated: May 17, 2006.
Tracey L. Thompson,
Acting Director, Office of Sustainable Fisheries, National Marine Fisheries Service.

[FR Doc. E6-7768 Filed 5-19-06; 8:45 am]

BILLING CODE 3510-22-S